DEPARTMENT OF THE INTERIOR

National Park Service

[NPS-WASO-NRNHL-DTS#-32953; PPWOCRADI0, PCU00RP14.R50000]

National Register of Historic Places; Notification of Pending Nominations and Related Actions

AGENCY: National Park Service, Interior.

ACTION: Notice.

SUMMARY: The National Park Service is soliciting electronic comments on the significance of properties nominated before October 23, 2021, for listing or related actions in the National Register of Historic Places.

DATES: Comments should be submitted electronically by November 17, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before October 23, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ALABAMA

Baldwin County

Twelvemile Island Ship Graveyard Historical and Archaeological District, Address Restricted, Mobile vicinity, SG100007203

Houston County

Moody Hospital, 311 North Alice St., Dothan, SG100007191

Jefferson County

Norwood Historic District (Boundary Increase), Generally bounded by Carraway Blvd., 19th Ave. North, Norwood Blvd., 17th Ave. North, Vanderbilt Rd., and I 20/59, Birmingham, BC100007201

Mobile County

Twelvemile Island Ship Graveyard Historical and Archaeological District, Address Restricted, Mobile vicinity, SG100007203

Russell County

Phenix City Post Office Building, 500 14th St., Phenix City, SG100007192

COLORADO

Montrose County

Fetz-Keller Ranch Headquarters (Boundary Increase), 61789 CO 90, Montrose vicinity, BC100007204

MICHIGAN

Berrien County

Whitcomb Hotel, 509 Ship St., Saint Joseph, SG100007206

Kalamazoo County

State Theatre

(Kalamazoo MRA), 404 S. Burdick St., Kalamazoo, 83004623

Wayne County

Malcolm X House, 4336 Williams St., Inkster, SG100007205

MONTANA

Jefferson County

Hall Bungalow, 500 Lower Valley Rd., Boulder vicinity, SG100007197

NEBRASKA

Douglas County

Douglas County Courthouse (Boundary Increase), 1701 Farnam St., Omaha, BC100007195

OHIO

Summit County

Akron Beacon Journal Building, 44 East Exchange St., Akron, SG100007190

PENNSYLVANIA

York County

Merchants Cigar Box Company, 100 East Broad St., Dallastown, SG100007193

TEXAS

Travis County

Third Street Railroad Trestle, West end of 3rd St. at Shoal Cr., Austin, SG100007202

Additional documentation has been received for the following resources:

ALABAMA

Jefferson County

Norwood Historic District (Additional Documentation), Generally bounded by Carraway Blvd., 19th Ave. North, Norwood Blvd., 17th Ave. North, Vanderbilt Rd., and I 20/59, Birmingham, AD01001166

NEBRASKA

Douglas County

Douglas County Courthouse (Additional Documentation), 1701 Farnam St., Omaha, AD79003683

WISCONSIN

Racine County

Old Main Street Historic District (Additional Documentation), Generally Main between State and 5th Sts., Racine, AD87000491

Nominations submitted by Federal Preservation Officer:

The State Historic Preservation Officer reviewed the following nominations and responded to the Federal Preservation Officer within 45 days of receipt of the nomination and supports listing the properties in the National Register of Historic Places.

CALIFORNIA

Santa Barbara County

Santa Cruz Island Archeological District (Boundary Increase), Address Restricted, Santa Barbara vicinity, BC100007199

Santa Cruz Island Archeological District (Additional Documentation), Address Restricted, Santa Barbara vicinity, AD80000405

Authority: Section 60.13 of 36 CFR part 60.

Dated: October 26, 2021.
Sherry A. Frear,
Chief, National Register of Historic Places/National Historic Landmarks Program.

[FR Doc. 2021-23881 Filed 11-1-21; 8:45 am]

BILLING CODE 4312-52-P